DEPARTMENT OF STATE

[Public Notice 4363]

Foreign Terrorists and Terrorist Organizations; Designation: Real IRA

In the Matter of the Redesignation of the “Real IRA” also Known as the “Real Irish Republican Army” also Known as “RIRA” also Known as the “32 County Sovereignty Committee” also Known as the “32 County Sovereignty Movement” also Known as the “Real Oglaigh na hEireann” also Known as the “Irish Republican Prisoners Welfare Association” as a Foreign Terrorist Organization Pursuant to Section 219 of the Immigration and Nationality Act

Based upon a review of the Administrative Record assembled in this matter and in consultation with the Attorney General and the Secretary of the Treasury, the Secretary of State has concluded that there is a sufficient factual basis to find that the relevant circumstances described in section 219 of the Immigration and Nationality Act, as amended (hereinafter “INA”), exist with respect to the Real IRA.

The “Real IRA” is also known as the “Real Irish Republican Army,” also known as “RIRA,” also known as the “32 County Sovereignty Committee,” also known as the “32 County Sovereignty Movement,” also known as the “Real Oglaigh na hEireann,” also known as the “Irish Republican Prisoners Welfare Association.” Therefore, the Secretary of State hereby redesignates, effective May 16, 2003, that organization as a foreign terrorist organization pursuant to section 219(a) of the INA.

Dated: May 5, 2003.
Cofer Black,
Coordinator for Counterterrorism, Department of State.

[FR Doc. 03-11902 Filed 5-12-03; 8:45 am]

BILLING CODE 4710-10-U